DEPARTMENT OF HOMELAND SECURITY

Federal Emergency Management Agency

44 CFR Part 67

[Docket No. FEMA-B-7768]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before July 2, 2008.

ADDRESSES: The corresponding preliminary Flood Insurance Rate Map (FIRM) for the proposed BFEs for each community are available for inspection at the community's map repository. The respective addresses are listed in the table below.

You may submit comments, identified by Docket No. FEMA-B-7768, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground: Existing | * Elevation in feet (NGVD) + Elevation in feet (NAVD) # Depth in feet above ground: Modified
City of Richmond, Virginia
Virginia | City of Richmond | Bacons Quarter Branch | Approximately at the confluence with Shockoe Creek | None | +67
|  |  | Approximately 1400 feet upstream of Hermitage Road | None | +184
Virginia | City of Richmond | Battery Park Ponding Area | Approximately 2250 feet south of Overbrook Road | None | +136
|  |  | Approximately 850 feet north of Overbrook Road | None | +139
Virginia | City of Richmond | Cannons Creek Branch | Approximately at the confluence with Bacons Quarter Branch | None | +74
|  |  | Approximately 200 feet downstream of Vale Street | None | +96
Virginia | City of Richmond | Jordans Branch | Approximately 35 feet north of Route 64 near the Henrico County line | None | +164
|  |  | Approximately 120 feet north of Route 64 near the Henrico County line | None | +164
Virginia | City of Richmond | Pocoshock Creek | Approximately at the Chesterfield County line | None | +133
|  |  | Approximately at the confluence with Pocosham Creek | None | +133
Virginia | City of Richmond | Shockoe Creek | Approximately at East Franklin Street | +21 | +23
|  |  | Approximately 2700 feet upstream of Magnolia Street | None | +129
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Richmond
Maps are available for inspection at City Hall, 900 East Broad Street, Room 600, Richmond, VA 23219.

Flooding source(s) | Location of referenced elevation ** | * Elevation in feet (NGVD) + Elevation in feet (NAVD) # Depth in feet above ground: Effective | * Elevation in feet (NGVD) + Elevation in feet (NAVD) # Depth in feet above ground: Modified | Communities affected
Washington County, Minnesota, and Incorporated Areas
10th Street Basin | Entire shoreline | None | +885 | City of Afton.
10th Street and Neal Avenue Basin | Entire shoreline | None | +867 | City of Afton.
8th Street Basin | Entire shoreline | None | +880 | City of Afton.
Barker Lake | Entire shoreline | None | +891 | City of Hugo, Unincorporated Areas of Washington County.
Bay Lake | Entire shoreline | None | +891 | Unincorporated Areas of Washington County.
Cloverdale Lake | Entire shoreline | None | +907 | Unincorporated Areas of Washington County.
East Boot Lake | Entire shoreline | None | +920 | Unincorporated Areas of Washington County.
Fish Lake | Entire shoreline | None | +954 | City of Scandia.
Forest Lake | Entire shoreline | None | +903 | City of Forest Lake.
Freidrich Pond | Entire shoreline | None | +913 | City of Lake Elmo.
German Lake | Entire shoreline | None | +959 | City of Scandia.
Klawitter Pond | Entire shoreline | None | +963 | City of Lake Elmo.
Kramer Pond | Entire shoreline | None | +914 | City of Lake Elmo.
Legion Pond | Entire shoreline | None | +889 | City of Lake Elmo.
Maple Marsh | Entire shoreline | None | +975 | Unincorporated Areas of Washington County.
McDonald Lake | Entire shoreline | None | +892 | Unincorporated Areas of Washington County.
Mississippi River | Approximately 1,850 feet upstream of southern County Boundary | +692 | +691 | City of Cottage Grove, City of Hastings, City of Newport, City of St. Paul Park, Unincorporated Areas of Washington County.
| Approximately 1,200 feet downsteam of southern County Boundary | +705 | +704
Mooers Lake Channel | At the convergence with the Mississippi River | +698 | +697 | City of Cottage Grove, Unincorporated Areas of Washington County.
| Just downstream of Grey Cloud Island Drive South | +698 | +697
Raleigh Creek | Approximately 180 feet upstream of the confluence with Lake Elmo | +889 | +899 | City of Lake Elmo, City of Oakdale.
| Approximately 845 feet upstream of 31st Street North | None | +975
Silver Lake | Entire shoreline | None | +991 | City of Oakdale.
South Branch Clearwater Creek | At the confluence with Clearwater Creek | +912 | +910 | City of Hugo.
| Approximately 950 feet upstream of the confluence with Clearwater Creek | +912 | +911
St. Croix River | Approximately 16,265 feet downstream of confluence with Interstate Highway 94 | +691 | +692 | Unincorporated Areas of Washington County, City of Afton, City of Bayport, City of Lake St. Croix Beach, City of Lakeland, City of Lakeland Shores, City of Marine-On-St. Croix, City of Oak Park Heights, City of St. Mary's Point, City of Stillwater.
| Approximately 23,050 feet downstream of SOO Line Railroad | None | +698
Staples Lake | Entire shoreline | None | +950 | Unincorporated Areas of Washington County.
Sunfish Lake | Entire shoreline | +894 | +899 | City of Lake Elmo.
Tingley Springs | Entire shoreline | None | +931 | City of Hugo.
Unnamed Wetland DNR ID No. 82015600 | Entire shoreline | None | +962 | City of Hugo, City of Forest Lake.
Unnamed Wetland DNR ID No. 82016500 | Entire shoreline | None | +964 | City of Forest Lake.
Unnamed Wetland DNR ID No. 82021200 | Entire shoreline | None | +965 | City of Forest Lake, City of Scandia.
Unnamed Wetland DNR ID No. 82021300 | Entire shoreline | None | +966 | City of Scandia.
Unnamed Wetland DNR ID No. 82021600 | Entire shoreline | None | +936 | City of Forest Lake, City of Hugo.
Unnamed Wetland DNR ID No. 82022000 | Entire shoreline | None | +958 | City of Forest Lake, City of Hugo.
Unnamed Wetland DNR ID No. 82022100 | Entire shoreline | None | +940 | City of Hugo.
Unnamed Wetland DNR ID No. 82022200 | Entire shoreline | None | +948 | City of Hugo.
Unnamed Wetland DNR ID No. 82022300 | Entire shoreline | None | +983 | City of Hugo, Unincorporated Areas of Washington County.
Unnamed Wetland DNR ID No. 82022400 | Entire shoreline | None | +957 | City of Hugo.
Unnamed Wetland DNR ID No. 82022500 | Entire shoreline | None | +974 | City of Hugo.
Unnamed Wetland DNR ID No. 82022700 | Entire shoreline | None | +945 | City of Hugo.
Unnamed Wetland DNR ID No. 82022900 | Entire shoreline | None | +952 | City of Hugo.
Unnamed Wetland DNR ID No. 82031200 | Entire shoreline | None | +910 | Unincorporated Areas of Washington County.
Unnamed Wetland DNR ID No. 82035000 | Entire shoreline | None | +1005 | City of Grant.
Unnamed Wetland North DNR ID No. 82031100 | Entire shoreline | None | +916 | Unincorporated Areas of Washington County.
Unnamed Wetland South DNR ID No. 82031100 | Entire shoreline | None | +918 | Unincorporated Areas of Washington County.
Valley Branch | Approximately 345 feet downstream of Putman Boulevard South | +692 | +693 | City of Afton.
| At West Metcalf Marsh Outfall | None | +813
Valley Creek | At the confluence with Valley Branch | +717 | +714 | City of Afton.
| Approximately 2,080 feet upstream of 22nd Street South (most upstream crossing) | None | +907
Valley Creek Tributary | At the confluence with Valley Creek | None | +792 | City of Afton.
| Approximately 3,265 feet upstream of the confluence with Valley Creek | None | +812
West Boot Lake | Entire shoreline | None | +920 | Unincorporated Areas of Washington County.
West Metcalf Marsh | Entire shoreline | None | +813 | City of Afton.
White Rock Lake | Entire shoreline | None | +966 | City of Scandia.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Afton
Maps are available for inspection at 3033 St. Croix Trail South, Afton, MN 55001.
City of Bayport
Maps are available for inspection at 294 North Third Street, Bayport, MN 55003.
City of Cottage Grove
Maps are available for inspection at 7516 80th Street South, Cottage Grove, MN 55016.
City of Forest Lake
Maps are available for inspection at 220 North Lake Street, Forest Lake, MN 55025.
City of Grant
Maps are available for inspection at 111 Wildwood Road, Willernie, MN 55090.
City of Hastings
Maps are available for inspection at 101 Fourth Street East, Hastings, MN 55033.
City of Hugo
Maps are available for inspection at 14669 Fitzgerald Avenue North, Hugo, MN 55038.
City of Lake Elmo
Maps are available for inspection at 3800 Laverne Avenue, Lake Elmo, MN 55042.
City of Lake St. Croix Beach
Maps are available for inspection at 1919 Quebec Avenue South, Lake St. Croix Beach, MN 55043.
City of Lakeland
Maps are available for inspection at 690 Quinnell Avenue North, Lakeland, MN 55043.
City of Lakeland Shores
Maps are available for inspection at 1858 Ramada Avenue South, Lakeland Shores, MN 55043.
City of Marine-On-St. Croix
Maps are available for inspection at 121 Judd Street, Marine on St. Croix, MN 55047.
City of Newport
Maps are available for inspection at 596 7th Avenue, Newport, MN 55055.
City of Oak Park Heights
Maps are available for inspection at 14168 Oak Park Blvd. North, Oak Park Heights, MN 55082.
City of Oakdale
Maps are available for inspection at 1584 Hadley Ave. North, Oakdale, MN 55128.
City of Scandia
Maps are available for inspection at 13809 Scandia Trail, Scandia, MN 55073.
City of St. Mary's Point
Maps are available for inspection at 16491 St. Mary's Drive South, St. Mary's Point, MN 55043.
City of St. Paul Park
Maps are available for inspection at 600 Portland Avenue, St. Paul Park, MN 55071.
City of Stillwater
Maps are available for inspection at 106 South Main Street, Stillwater, MN 55082.
Unincorporated Areas of Washington County
Maps are available for inspection at 14949 62nd Street North, Stillwater, MN 55082-0006.
Portage County, Ohio, and Incorporated Areas
Breakneck Creek | Approximately 260 feet upstream of Brady Lake Road | None | +1040 | Unincorporated Areas of Portage County.
| At confluence of Breakneck Creek and Hudson Ditch | None | +1069
Breakneck Creek Overflow | Approximately 5,300 feet upstream of Main Street | None | +1048 | City of Kent.
| Approximately 1,400 feet downstream of Powder Mill Road | None | +1048
Breakneck Creek Overflow | Approximately 3,500 feet upstream of Main Street | None | +1047 | Unincorporated Areas of Portage County.
| Approximately 600 feet downstream of Powder Mill Road | None | +1048
Cuyahoga River | Approximately 80 feet upstream of Main Street | +1085 | +1084 | Village of Mantua.
| Approximately 3,300 feet upstream of High Street | +1088 | +1087
Cuyahoga River | Approximately 1,500 feet upstream of River Bend Boulevard | None | +1040 | Unincorporated Areas of Portage County.
| Approximately 2,900 feet upstream of River Bend Boulevard | None | +1040
| Approximately 1,600 feet downstream of Infirmary Road | None | +1082
| Approximately 3,300 feet upstream of High Street | None | +1087
Cuyahoga River Overflow | Approximately 1,100 feet upstream of confluence with Cuyahoga River | None | +1083 | Village of Mantua.
| Approximately 2,600 feet upstream of confluence with Cuyahoga River | None | +1083
Cuyahoga River Overflow | Approximately 700 feet upstream of confluence with Cuyahoga River | None | +1083 | Unincorporated Areas of Portage County.
| Approximately 1,700 feet upstream of confluence with Cuyahoga River | None | +1083
Hudson Ditch | At confluence of Breakneck Creek and Hudson Ditch | None | +1069 | Unincorporated Areas of Portage County.
| Approximately 2,300 feet upstream of Bower Road | None | +1084
Plum Creek | Approximately 30 feet upstream of Railroad | +1016 | +1017 | City of Kent.
| Approximately 200 feet downstream of Howe Road | None | +1040
Plum Creek | Approximately 330 feet downstream of Howe Road | None | +1039 | Unincorporated Areas of Portage County.
| Approximately 4,000 feet upstream of Tallmadge Road | None | +1078
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Kent
Maps are available for inspection at 930 Overholt Road, Kent, OH 44240.
Unincorporated Areas of Portage County
Maps are available for inspection at 449 South Meridian Street, Ravenna, OH 44266.
Village of Mantua
Maps are available for inspection at 4736 East High Street, Mantua, OH 44255.
Centre County, Pennsylvania, and Incorporated Areas
Cherry Run | Approximately at the confluence with North Fork Beech Creek | None | +1396 | Township of Snow Shoe.
| Approximately at Clarence Road | None | +1396
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Township of Snow Shoe
Maps are available for inspection at Town Hall, 268 Oldside Road, Clarence, PA 16829.
Bedford County, Virginia, and Incorporated Areas
Ivy Creek | Approximately 1,430 ft downstream of Hawkins Mill Road | +678 | +679 | Unincorporated Areas of Bedford County.
| Approximately 2,200 ft downstream of Tabernacle Lane | +823 | +829
Johns Creek | Approximately at confluence with Little Otter River | None | +732 | Unincorporated Areas of Bedford County, City of Bedford.
| Approximately 1,800 ft downstream of Independence Boulevard | None | +818
Johns Creek | Approximately 445 ft downstream of Independence Boulevard | +827 | +828 | City of Bedford, Unincorporated Areas of Bedford County.
| Approximately 740 ft upstream of Independence Boulevard | +841 | +842
| Approximately 3,400 ft upstream of Independence Boulevard | None | +861
| Approximately at East Main Street | None | +939
Little Otter River | Approximately at Big Island Highway | +790 | +792 | Unincorporated Areas of Bedford County.
| Approximately at Route 43 | +837 | +839
Tributary No. 10 To Ivy Creek | Approximately at confluence with Ivy Creek | None | +700 | Unincorporated Areas of Bedford County.
| Approximately 500 ft downstream of Forest Road | None | +838
Tributary No. 10 To Little Otter River | Approximately at confluence with Little Otter River | None | +839 | City of Bedford, Unincorporated Areas of Bedford County.
| Approximately at Lake Drive | None | +867
Tributary No. 11 To Ivy Creek | Approximately at confluence with Ivy Creek | None | +696 | Unincorporated Areas of Bedford County.
| Approximately 250 ft downstream of Forest Road | None | +802
Tributary No. 14 To Ivy Creek | Approximately at confluence with Ivy Creek | None | +683 | Unincorporated Areas of Bedford County.
| Approximately 1,500 ft upstream of McIntosh Drive | None | +812
Tributary No. 15 To Ivy Creek | Approximately at county boundary with the City of Lynchburg | None | +671 | Unincorporated Areas of Bedford County.
| Approximately 1 mi upstream of Hawkins Mill Road | None | +800
Tributary No. 8 To Little Otter River | Approximately at confluence with Little Otter River | None | +797 | Unincorporated Areas of Bedford County, City of Bedford.
| Approximately at Bedford City corporate limits | None | +824
Tributary No. 8 To Little Otter River | Approximately at Bedford City corporate limits | None | +824 | City of Bedford, Unincorporated Areas of Bedford County.
| Approximately 500 ft downstream of Longwood Avenue | None | +932
Tributary No. 8A To Little Otter River | Approximately at confluence with Tributary No. 8 To Little Otter River | None | +824 | City of Bedford, Unincorporated Areas of Bedford County.
| Approximately 0.5 mi upstream of confluence with Tributary No. 8 To little Otter River | None | +914
Tributary No. 9 To Little Otter River | Approximately at confluence with Little Otter River | None | +826 | Unincorporated Areas of Bedford County, City of Bedford.
| Approximately 1,700 ft downstream of Whitfield Drive | None | +851
Tributary No. 9 To Little Otter River | Approximately 1,700 ft downstream of Whitfield Drive | None | +851 | City of Bedford, Unincorporated Areas of Bedford County.
| Approximately 2,400 ft upstream of Whitfield Drive | None | +940
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bedford
Maps are available for inspection at City Municipal Building, 215 E. Main Street, Bedford, VA 24523.
Unincorporated Areas of Bedford County
Maps are available for inspection at Office of the County Administrator, 122 E. Main Street, Suite 2002, Bedford, VA 24523.

(Catalog of Federal Domestic Assistance No. 97.022, “Flood Insurance.”)

Dated: March 17, 2008.
David I. Maurstad,
Federal Insurance Administrator of the National Flood Insurance Program, Department of Homeland Security, Federal Emergency Management Agency.

[FR Doc. E8-6912 Filed 4-2-08; 8:45 am]

BILLING CODE 9110-12-P